DEPARTMENT OF TRANSPORTATION

Federal Aviation Administration

[Docket No. FAA-2022-0345]

Airport Improvement Program (AIP) Grant Assurances

AGENCY: Federal Aviation Administration (FAA), Department of Transportation.

ACTION: Notice of modification of Airport Improvement Program grant assurances.

SUMMARY: On April 4, 2022, the FAA issued a notice of proposed modification of the Airport Improvement Program Grant Assurances in the Federal Register and provided an opportunity for public comment. In this notice, the FAA adopts without change the proposed grant assurance modifications. Additionally, the FAA responds to three comments received during the comment period.

DATES: The FAA implements these modified grant assurances upon publication of this notice.

FOR FURTHER INFORMATION CONTACT: Dave Cushing, Manager, Airports Financial Assistance Division, Federal Aviation Administration, 800 Independence Avenue SW, Washington, DC 20591, telephone (202) 267-8827; fax: (202) 267-5302.

SUPPLEMENTARY INFORMATION: A sponsor (applicant) seeking financial assistance in the form of an AIP grant for airport planning, airport development, noise compatibility planning, or noise mitigation under 49 U.S.C., as amended, must agree to comply with certain assurances. These grant assurances are incorporated in and become part of a sponsor's grant agreement for federal assistance. As need dictates, the FAA modifies these assurances to reflect new federal requirements. Notice of such modifications is published in the Federal Register, and an opportunity for public comment is provided. The assurances that apply to a sponsor depend on the type of sponsor.

There are four types of AIP grant assurances:

• Airport Sponsors (applicable for airport development);

• Non-Airport Sponsors Undertaking Noise Compatibility Program Projects;

• Planning Agency Sponsors; and

• Aviation State Block Grant Program.

Previously, the assurances were published on:

• September 6, 1984, at 49 FR 35282;

• February 3, 1988, at 53 FR 3104 and amended on September 6, 1988, at 53 FR 34361;

• August 29, 1989, at 54 FR 35748;

• June 10, 1994, at 59 FR 30076;

• January 4, 1995, at 60 FR 521;

• June 2, 1997, at 62 FR 29761;

• August 18, 1999, at 64 FR 45008;

• August 24, 2004, at 69 FR 52057 and amended on March 29, 2005, at 70 FR 15980;

• March 18, 2011, at 76 FR 15028;

• April 13, 2012, at 77 FR 22376;

• April 3, 2014, at 79 FR 18755; and

• February 28, 2020, at 85 FR 12048.

A complete list of the grant assurances may be viewed at: https://www.faa.gov/airports/aip/grant_assurances/.

Comments Received

The FAA received three comments during the comment period. Two identical comments expressed concern about FAA policies regarding grants provided to address noise and environmental impacts in communities. The FAA appreciates the commenters' input but notes that this comment is outside the scope of this notice. The agency referred the comment to the FAA Aviation Noise Ombudsman.

The second comment expressed concern about the addition of grant assurance 23, Exclusive Rights, to the list of assurances applicable to planning projects. The commenter misunderstands the purpose of the addition. Airport planning grants are considered federal financial assistance under 2 CFR 200.40, and thus upon receipt of federal funds, the recipient is prohibited from granting an exclusive right for the use of the subject airport for an aeronautical activity under 49 U.S.C 40103(e) and 47107(a)(4). The FAA is not making any changes to grant assurance 23.

Based on the foregoing, the FAA adopts without change the proposed grant assurance modifications, which are effective upon publication of this notice.

Issued in Washington, DC on April 26, 2022.

Authority for Grant Assurance Modifications

This notice is published under the authority described in Subtitle VII, Part B, Chapter 471, Sections 47107 and 47122 of Title 49 United States Code (U.S.C.). In addition, the statutory authorities delegated to the Federal Aviation Administration are enumerated in Title 49 Code of Federal Regulations (CFR) 1.83 (“Delegations to the Federal Aviation Administration”).

Robert John Craven,
Director, Office of Airport Planning and Programming.

[FR Doc. 2022-09303 Filed 4-29-22; 8:45 am]

BILLING CODE 4910-13-P